DEPARTMENT OF COMMERCE

National Oceanic and Atmospheric Administration

[RTID 0648-XR093]

Marine Mammals; File No. 23203

AGENCY: National Marine Fisheries Service (NMFS), National Oceanic and Atmospheric Administration (NOAA), Commerce.

ACTION: Notice; receipt of application.

SUMMARY: Notice is hereby given that the Environmental Institute of Houston at the University of Houston, Clear Lake (Responsible Party: George Guillen), 2700 Bay Area Blvd., Box 540, Houston, TX 77508-1002, has applied in due form for a permit to conduct research on bottlenose dolphins (Tursiops truncatus).

DATES: Written, telefaxed, or email comments must be received on or before March 16, 2020.

ADDRESSES: The application and related documents are available for review by selecting “Records Open for Public Comment” from the “Features” box on the Applications and Permits for Protected Species (APPS) home page, https://apps.nmfs.noaa.gov, and then selecting File No. 23203 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant proposes to conduct research on common bottlenose dolphins in the bays, sounds, estuaries, and near-shore coastal waters of Texas in the northwestern Gulf of Mexico. The purpose of the research is to: (1) Develop and maintain photo-identification catalogs; (2) characterize fine-scale population structure and dynamics; (3) establish baseline patterns of distribution, habitat use, diet, and health; (4) estimate abundance for strategic stocks; (5) analyze dolphin behavior in relation to anthropogenic activities; and (6) identify potential risks to the population. Researchers would take up to 16,288 dolphins annually during vessel surveys for counts, photo-identification, behavioral observation and passive acoustic recordings. A subset of animals would also be biopsy sampled or observed for photogrammetry with an unmanned aircraft system. Up to 200 non-target cetaceans may be incidentally harassed and/or approached annually for counts and behavioral observation.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 11, 2020.
Julia Marie Harrison,
Chief, Permits and Conservation Division, Office of Protected Resources, National Marine Fisheries Service.

[FR Doc. 2020-03005 Filed 2-13-20; 8:45 am]

BILLING CODE 3510-22-P